DEPARTMENT OF COMMERCE

National Oceanic and Atmospheric Administration

RIN 0648-XV064

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of the Snapper Grouper Advisory Panel (AP).

DATES: The Snapper Grouper AP meeting will take place October 9, 2019, from 1:30 p.m. to 5 p.m.; October 10, 2019, from 8:30 a.m. until 5 p.m.; and October 11, 2019, from 8:30 a.m. until 12 p.m.

ADDRESSES:

Meeting address: The meeting will be held at the Town and Country Inn, 2008 Savannah Highway, Charleston, SC 29407; phone: (843) 571-1000.

Council address: South Atlantic Fishery Management Council, 4055 Faber Place Drive, Suite 201, N. Charleston, SC 29406.

FOR FURTHER INFORMATION CONTACT: Kim Iverson, Public Information Officer, SAFMC; phone 843/571-4366 or toll free: (866) SAFMC-10; fax: (843) 769-4520; email: kim.iverson@safmc.net.

SUPPLEMENTARY INFORMATION: The Snapper Grouper AP meeting is open to the public and will be available via webinar as it occurs. Registration is required. Webinar registration information, a public comment form, and other meeting materials will be posted to the Council's website at: http://safmc.net/safmc-meetings/current-advisory-panel-meetings/ as it becomes available.

Agenda items for the Snapper Grouper AP meeting include the following: An update on amendments to fishery management plans that are currently undergoing Secretarial review and those under development by the Council that impact the snapper grouper fishery. Amendments currently under development include draft Regulatory Amendment 33 addressing modifications to red snapper seasons and draft Regulatory Amendment 34 addressing Special Management Zones in North Carolina and South Carolina. The AP will receive an update on the Southeast Data, Assessment, and Review (SEDAR) stock assessment program and address participation as needed. AP members will also receive an update and provide input on management measures relative to the Draft Environmental Impact Statement to modify boundaries and update regulations within the Florida Key National Marine Sanctuary.

The AP will also receive an update on the Council's Citizen Science Program, and presentations on the economic performance of the snapper grouper commercial fishery, electronic reporting for the commercial sector, and other presentations as needed. The AP will discuss agenda items as directed by the Council and develop recommendations for consideration by the Council's Snapper Grouper Committee.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: September 9, 2019.
Tracey L. Thompson,
Acting Deputy Director, Office of Sustainable Fisheries, National Marine Fisheries Service.

[FR Doc. 2019-19730 Filed 9-11-19; 8:45 am]

BILLING CODE 3510-22-P